DEPARTMENT OF ENERGY

Federal Energy Regulatory Commission

[Docket No. EG04-77-000, et al.]

Reliant Energy Wholesale Generation, LLC, et al.; Electric Rate and Corporate Filings

August 18, 2004.

The following filings have been made with the Commission. The filings are listed in ascending order within each docket classification.

1. Reliant Energy Wholesale Generation, LLC.

[Docket No. EG04-77-000]

Take notice that on August 13, 2004 Reliant Energy Wholesale Generation, LLC (REWG) submitted a supplement to its application filed on June 21, 2004 in Docket No. EG04-77-000 for a determination of exempt wholesale generator status within the meaning of section 32(a) of the Public Utility Holding Company Act of 1935.

Comment Date: 5 p.m. eastern time on September 3, 2004.

2. Texas Genco II, LP

[Docket No. EG04-95-000]

Take notice that on August 12, 2004, Texas Genco II, LP (Genco II) tendered for filing an application for a determination of exempt wholesale generator status, pursuant to section 32(a)(1) of the Public Utility Holding Company Act of 1935, as amended, (PUHCA), 15 USC 79z-5a(a)(1) (2000), and Subchapter T, Part 365 of the regulations of the Commission, 18 CFR Part 365 (2003).

Genco II states that it is limited to a partnership organized and existing under the laws of the State of Texas that will own and operate eleven electric generating facilities, with an aggregate maximum capacity of approximately 13,400 megawatts, located in Texas. Genco II states that it will be engaged directly, or indirectly through one or more affiliates as defined in Section 2(a)(11)(B) of PUHCA, and will be exclusively in the business of owning eligible facilities, and selling electric energy at wholesale.

Comment Date: 5 p.m. eastern time on September 2, 2004.

3. Tenaska Power Services Co., v. Midwest Independent Transmission System Operator, Inc. and Cargill Power Markets, LLC v. Midwest Independent Transmission System Operator, Inc.

[Docket No. EL04-43-003 and EL04-46-003 (Not Consolidated)]

Take notice that on August 12, 2004, the Midwest Independent Transmission System Operator, Inc. (Midwest ISO) submitted a correction to its August 9, 2004 compliance filing in Docket Nos. EL04-43-002 and EL04-46-002.

Midwest ISO states that the filing has been served electronically upon all Midwest ISO Members, Member representatives of Transmission Owners and Non-Transmission Owners, the Midwest ISO Advisory Committee participants, as well as all state commissions in the region.

Comment Date: 5 p.m. eastern time on August 25, 2004.

4. CMS Generation Michigan Power, L.L.C.

[Docket No. ER99-3677-002]

Take notice that on August 12, 2004, CMS Generation Michigan Power, L.L.C. (MI Power) submitted a revised generation market analysis in compliance with the Commission's order issued May 13, 2004 in Docket No. ER02-1406-001, et al., Acadia Power Partners, LLC, 107 FERC ¶ 61,168 (2004).

MI Power states that a copy of the filing was served upon the Michigan Public Service Commission and those on the official service list in MI Power's pending market power analysis proceeding, Docket No. ER99-3677-000.

Comment Date: 5 p.m. eastern time on September 2, 2004.

5. Dearborn Industrial Generation, L.L.C.

[Docket No. ER01-570-003]

Take notice that on August 12, 2004, Dearborn Industrial Generation, L.L.C. (DIG) submitted a revised generation market analysis in compliance with the Commission's order issued May 13, 2004 in Docket No. ER02-1406-001, et al., Acadia Power Partners, LLC, 107 FERC ¶ 61,168 (2004).

DIG states that a copy of the filing was served upon the Michigan Public Service Commission and those on the official service list in DIG's pending market power analysis proceeding, Docket Nos. ER01-570-000 and 001.

Comment Date: 5 p.m. eastern time on September 2, 2004.

6. CMS Energy Resource Management Company

[Docket No. ER04-543-003]

Take notice that on August 12, 2004, CMS Energy Resource Management Company (ERM) submitted a revised generation market analysis in compliance with the Commission's order issued May 13, 2004 in Docket No. ER02-1406-001, et al., Acadia Power Partners, LLC, 107 FERC ¶ 61,168 (2004).

ERM states that a copy of the filing was served upon the Michigan Public Service Commission and those on the official service list in ERM's pending market power analysis proceeding, Docket No. ER96-2350-023.

Comment Date: 5 p.m. eastern time on September 2, 2004.

7. Consolidated Edison Company of New York, Inc.

[Docket No. ER04-866-001]

Take notice that on July 13, 2004 Consolidated Edison Company of New York, Inc. (ConEdison) submitted an amendment to its May 24, 2004 filing in Docket No. ER04-866-000. ConEdison submitted First Revised Sheets Nos. 13 and 23 to its Rate Schedule No. 2.

Comment Date: 5 p.m. eastern time on August 25, 2004.

8. Midwest Independent Transmission System Operator, Inc.

[Docket No. ER04-1112-000]

Take notice that on August 11, 2004, the Midwest Independent Transmission System Operator, Inc. (Midwest ISO) submitted for filing a Notice of Succession of the Amendment and Restatement of the April 1, 2001 Generator Interconnection Agreement between Michigan Electric Transmission Company and Consumers Energy Company from the Midwest ISO Joint Open Access Transmission Tariff (JOATT) to the Midwest ISO Open Access Transmission Tariff (OATT). The Midwest ISO requests an effective date of January 1, 2003.

Midwest ISO states that it has served a copy of this filing upon the affected customers. In addition, the Midwest ISO has electronically served a copy of this filing, with attachments, upon all Midwest ISO Members, Member representatives of Transmission Owners and Non-Transmission Owners, the Midwest ISO Advisory Committee participants, as well as all state commissions within the region. In addition, the filing has been electronically posted on the Midwest ISO's Web site at http://www.midwestiso.org under the heading “Filings to FERC” for other interested parties in this matter. The Midwest ISO will provide hard copies to any interested parties upon request.

Comment Date: 5 p.m. eastern time on September 1, 2004.

9. Kentucky Utilities Company

[Docket No. ER04-1114-000]

Take notice that on August 12, 2004, Kentucky Utilities (KU), a subsidiary of LG&E Energy LLC, tendered for filing Original Sheet No. 8 to KU's Rate Schedule No. 310, an amendment to the contract between KU and the City of Falmouth, Kentucky.

Comment Date: 5 p.m. eastern time on September 2, 2004.

10. Kentucky Utilities Company

[Docket No. ER04-1115-000

Take notice that on August 12, 2004, Kentucky Utilities (KU), a subsidiary of LG&E Energy LLC, tendered for filing Original Sheet No. 8 and No. 9 to KU's Rate Schedule No. 309, an amendment to the contract between KU and the City of Corbin, Kentucky.

Comment Date: 5 p.m. eastern time on September 2, 2004.

11. Kentucky Utilities Company

[Docket No. ER04-1116-000]

Take notice that on August 12, 2004, Kentucky Utilities (KU), a subsidiary of LG&E Energy LLC, tendered for filing Original Sheet No. 8 to KU's Rate Schedule No. 311, an amendment to the contract between KU and the City of Frankfort, Kentucky.

Comment Date: 5 p.m. eastern time on September 2, 2004.

12. Kentucky Utilities Company

[Docket No. ER04-1117-000]

Take notice that on August 12, 2004, Kentucky Utilities (KU), a subsidiary of LG&E Energy LLC, tendered for filing Original Sheet No. 8 to KU's Rate Schedule No. 304, an amendment to the contract between KU and the City of Barbourville, Kentucky.

Comment Date: 5 p.m. eastern time on September 2, 2004.

13. Kentucky Utilities Company

[Docket No. ER04-1118-000]

Take notice that on August 12, 2004, Kentucky Utilities (KU), a subsidiary of LG&E Energy LLC, tendered for filing Original Sheet No. 8, No. 9, No. 10, No. 11, No. 12 and No. 13 to KU's Rate Schedule No. 306, an amendment to the contract between KU and the City of Madisonville, Kentucky.

Comment Date: 5 p.m. eastern time on September 2, 2004.

14. Kentucky Utilities Company

[Docket No. ER04-1119-000]

Take notice that on August 12, 2004, Kentucky Utilities (KU), a subsidiary of LG&E Energy LLC, tendered for filing Original Sheet No. 8, No. 9, No. 10 and No. 11 to KU's Rate Schedule No. 307, an amendment to the contract between KU and the City of Nicholasville, Kentucky.

Comment Date: 5 p.m. eastern time on September 2, 2004.

15. Kentucky Utilities Company

[Docket No. ER04-1120-000]

Take notice that on August 12, 2004, Kentucky Utilities (KU), a subsidiary of LG&E Energy LLC, tendered for filing Original Sheet No. 8 to KU's Rate Schedule No. 308, an amendment to the contract between KU and the City of Benham, Kentucky.

Comment Date: 5 p.m. eastern time on September 2, 2004.

16. Kentucky Utilities Company

[Docket No. ER04-1121-000]

Take notice that on August 12, 2004, Kentucky Utilities (KU), a subsidiary of LG&E Energy LLC, tendered for filing Original Sheet No. 8 and No. 9 to KU's Rate Schedule No. 305, an amendment to the contract between KU and the City of Providence, Kentucky.

Comment Date: 5 p.m. eastern time on September 2, 2004.

17. Kentucky Utilities Company

[Docket No. ER04-1122-000]

Take notice that on August 12, 2004, Kentucky Utilities (KU), a subsidiary of LG&E Energy LLC, tendered for filing Original Sheet No. 8 and No. 9 to KU's Rate Schedule No. 301, an amendment to the contract between KU and the City of Paris, Kentucky.

Comment Date: 5 p.m. eastern time on September 2, 2004.

18. PJM Interconnection, L.L.C.

[Docket No. ER04-1123-000]

Take notice that on August 12, 2004. PJM Interconnection, L.L.C. (PJM), submitted for filing Original Service Agreement No. 1126 under PJM's FERC Electric Tariff Sixth revised Volume No. 1, an interim interconnection service agreement among PJM, Wind Park Bear Creek, LLC, and PPL Electric Utilities Corporation. PJM requests an effective date of July 13, 2004.

PJM states that copies of this filing were served upon the parties to the agreement and the state regulatory commissions within the PJM region.

Comment Date: 5 p.m. eastern time on September 2, 2004.

19. PJM Interconnection, L.L.C.

[Docket No. ER04-1124-000]

Take notice that on August 12, 2004, PJM Interconnection, L.L.C. (PJM), submitted for filing Second Revised Service Agreement No. 896 under PJM's FERC Electric Tariff Sixth Revised Volume No. 1, a revised interconnection service agreement among PJM, Waymart Wind Farm, L.P., and PPL Electric Utilities Corporation. PJM requests an effective date of July 13, 2004.

PJM states that copies of this filing were served upon the parties to the agreement and the state regulatory commissions within the PJM region.

Comment Date: 5 p.m. eastern time on September 2, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Acting Secretary.

[FR Doc. E4-1899 Filed 8-24-04; 8:45 am]

BILLING CODE 6717-01-P